DEPARTMENT OF HOMELAND SECURITY

Federal Emergency Management Agency

44 CFR Part 67

[Docket ID FEMA-2008-0020; Internal Agency Docket No. FEMA-B-1038]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-1038, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground ‸ Elevation in meters (MSL): Existing | * Elevation in feet (NGVD) + Elevation in feet (NAVD) # Depth in feet above ground ‸ Elevation in meters (MSL): Modified
Prairie Island Indian Community, Minnesota
Minnesota | Prairie Island Indian Community | Mississippi River | Located at the Goodhue/Wabasha County Line | +682 | +681
|  |  | Located at the Goodhue/Dakota County Line | +690 | +688
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Prairie Island Indian Community
Maps are available for inspection at the Administration Building, 5636 Sturgeon Lake Road, Welch, MN 55089.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
New Haven County, Connecticut, and Incorporated Areas
Coguinchaug River | At county boundary | None | +199 | Town of Guilford.
| Approximately 25 feet upstream of county boundary | None | +199
Farm River | At a point located approximately 700 feet downstream of West Main Street (U.S. Route 1) | +11 | +10 | Town of Branford, Town of East Haven.
| At Mouth of Farm River | +14 | +15
Hoadley Creek | Approximately 700 feet upstream of State Route 146 | None | +10 | Town of Branford.
| Approximately 800 feet upstream of State Route 146 | None | +10
Housatonic River | Approximately 1.7 miles upstream of Merritt Parkway | +15 | +14 | City of Milford.
| Approximately 2.2 miles upstream of Merritt Parkway | +16 | +14
Mad River (Lower Reach) | Approximately 73 feet upstream of Sharon Road | None | +461 | City of Waterbury.
| Approximately 800 feet upstream of Sharon Road | None | +461
Muddy River Tributary C | Approximately 528 feet downstream of State Route 22 | None | +80 | Town of North Haven.
| Approximately 328 feet downstream of State Route 22 | None | +81
Naugatuck River | Approximately 0.65 mile downstream of Kinneytown Dam | +44 | +40 | Town of Seymour.
| Approximately 0.53 mile downstream of Kinneytown Dam | +44 | +43
Neck River | Just upstream of Goulds Pond Dam | None | +76 | Town of Guilford.
| Approximately 0.8 mile upstream of Blinn Shed Road | None | +143
Quinnipiac River | At confluence of Wharton Brook | +20 | +21 | Town of North Haven.
| Just downstream of Toelles Road | +22 | +23
Wharton Brook | At confluence with Quinnipiac River | +20 | +21 | Town of North Haven.
| Approximately 500 feet upstream of the confluence with Quinnipiac River | +20 | +21
Willow Brook | Approximately 400 feet upstream of the confluence with Mill River | +113 | +114 | Town of Hamden.
| At Mount Sanford Road | None | +125
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Milford
Maps are available for inspection at City of Milford Planning and Zoning Office, 70 West River Street, Milford, CT.
City of Waterbury
Maps are available for inspection at City of Waterbury Public Works Department, 26 Kendrick Avenue, 2nd Floor, Waterbury, CT.
Town of Branford
Maps are available for inspection at Branford Town Hall, 1019 Main Street, Branford, CT.
Town of East Haven
Maps are available for inspection at Town of East Haven Engineering Office, 461 North High Street, East Haven, CT.
Town of Guilford
Maps are available for inspection at Guilford Town Hall South, 50 Boston Street, Guilford, CT.
Town of Hamden
Maps are available for inspection at Town of Hamden Planning and Zoning Department, 2750 Dixwell Avenue, Hamden, CT.
Town of North Haven
Maps are available for inspection at North Haven Town Hall Annex, 18 Church Street, North Haven, CT.
Town of Seymour
Maps are available for inspection at Seymour Town Hall, 1 First Street, Seymour, CT.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Monroe County, Kentucky, and Incorporated Areas
Cumberland River | Approximately 5200 feet downstream confluence with McFarland Creek | None | +518 | Unincorporated Areas of Monroe County.
| At confluence with Glasscock Creek | None | +536
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Monroe County
Maps are available for inspection at 200 North Main Street, Tompkinsville, KY 42167.
Evangeline Parish, Louisiana, and Incorporated Areas
Bayou Barwick Tributary | At the intersection of Bayou Barwick Tributary and Stagg Road | None | +44 | Unincorporated Areas of Evangeline Parish.
| At the intersection of Bayou Barwick Tributary and Highway 190 | None | +44 |
Bayou Joe Marcel Tributary #1 | At the intersection of Bayou Joe Marcel Tributary #1 and Alton Locks Street | None | +67 | Town of Ville Platte.
| At the intersection of Bayou Joe Marcel Tributary #1 and Te Mamou Road | None | +67
Bayou Joe Marcel Tributary #2 | Approximately 522 feet upstream of the intersection of Bayou Joe Marcel Tributary #2 and Main Street. Base Flood Elevations extend to Bayou Joe Marcel Tributary #3 | +72 | +73 | Town of Ville Platte.
| At the intersection of Bayou Joe Marcel Tributary #2 and Ortego Street. Base Flood Elevations extend to Bayou Joe Marcel Tributary #3 | None | +74
Bayou Joe Marcel Tributary #3 | Approximately 1054 feet downstream of the intersection of Bayou Joe Marcel Tributary #3 and Reed Street. Base Flood Elevations extend to Bayou Joe Marcel Tributary #2 | None | +72 | Town of Ville Platte.
| Approximately 197 feet downstream of the intersection of Bayou Joe Marcel Tributary #3 and Reed Street. Base Flood Elevations extend to Bayou Joe Marcel Tributary #2 | +72 | +74
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Ville Platte
Maps are available for inspection at P.O. Box 390, Ville Platte, LA 70586.
Unincorporated Areas of Evangeline Parish
Maps are available for inspection at 200 Court Street, Ste 207, Ville Platte, LA 70586.
Marion County, Missouri, and Incorporated Areas
Bear Creek | 3,930 Feet Downstream of County Road 418 | None | +562 | Unincorporated Areas of Marion County.
| U.S. Highway 36 | None | +583
Minnow Branch | Munger Lane | +587 | +589 | City of Hannibal, Unincorporated Areas of Marion County.
| Veterans Road | None | +685
Mississippi River | 2.175 Miles Downstream of the Confluence of Bear Creek | +477 | +476 | Unincorporated Areas of Marion County, City of Hannibal.
| Confluence of Bear Creek | +475 | +477
| U.S. Highway 24 | +488 | +487
St. Clair Creek | 2,150 Feet Downstream of Veterans Road | +567 | +568 | Unincorporated Areas of Marion County, City of Hannibal.
| 400 Feet Upstream of Highway MM | None | +652
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Hannibal
Maps are available for inspection at 320 Broadway, Hannibal, MO 63401
Unincorporated Areas of Marion County
Maps are available for inspection at 100 South Main Street, Palmyra, MO 63461.
Saunders County, Nebraska, and Incorporated Areas
Cottonwood Creek | 2,000 feet upstream of County Road Q | +1315 | +1313 | Unincorporated Areas of Saunders County, Village of Prague.
| Just upstream of Railroad Avenue | +1333 | +1332
| Just upstream of State Highway 79 | +1344 | +1335
Platte River (with levee) | Just upstream of U.S. Highway 6 | +1066 | +1064 | Unincorporated Areas of Saunders County, Village of Leshara, Village of Morse Bluff.
| Just upstream of State Highway 64 | +1157 | +1159
| At State Highway 79 | +1273 | +1277
Platte River (without levee) | Just upstream of U.S. Highway 6 | +1066 | +1064 | Unincorporated Areas of Saunders County, Village of Leshara, Village of Morse Bluff.
| Just upstream of State Highway 64 | +1157 | +1154
| At State Highway 79 | +1273 | +1277
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Saunders County
Maps are available for inspection at Courthouse, 433 North Chestnut, Wahoo, NE 68066.
Village of Leshara
Maps are available for inspection at Village Hall, 210 Summit Street, Leshara, NE 68064.
Village of Morse Bluff
Maps are available for inspection at Village Hall, 440 2nd Street, Morse Bluff, NE 68648.
Village of Prague
Maps are available for inspection at Village Hall, 401 West Center Avenue, Prague, NE 68050.

(Catalog of Federal Domestic Assistance No. 97.022, “Flood Insurance.”)

Dated: February 11, 2009.
Michael K. Buckley,
Acting Assistant Administrator, Mitigation Directorate, Department of Homeland Security, Federal Emergency Management Agency.

[FR Doc. E9-6694 Filed 3-24-09; 8:45 am]

BILLING CODE 9110-12-P